DEPARTMENT OF COMMERCE

International Trade Administration

[A-570-863]

Honey from the People's Republic of China: Initiation of New Shipper Antidumping Duty Reviews

AGENCY: Import Administration, International Trade Administration, Department of Commerce.

EFFECTIVE DATE: January 31, 2006.

SUMMARY: In December 2005, the Department of Commerce (the Department) received four requests to conduct new shipper reviews of the antidumping duty order on honey from the People's Republic of China (PRC). We have determined that these requests meet the statutory and regulatory requirements for the initiation of new shipper reviews.

FOR FURTHER INFORMATION CONTACT: Catherine Bertrand or Kristina Boughton, AD/CVD Operations, Office 9, Import Administration, International Trade Administration, U.S. Department of Commerce, 14th Street and Constitution Avenue, NW, Washington, DC 20230; telephone: (202) 482-3207 or (202) 482-8173, respectively.

SUPPLEMENTARY INFORMATION:

Background

The Department received timely requests from Mongolia Altin Bee-Keeping Co., Ltd. (Altin), Dongtai Peak Honey Industry Co. Ltd. (Peak Honey), Qinhuangdao Municipal Dafeng Industrial Co., Ltd. (QMD), and Tianjin Eulia Honey Co., Ltd. (Eulia) in accordance with 19 CFR 351.214(c), for new shipper reviews of the antidumping duty order on honey from the PRC, which has a December annual anniversary month, and a June semi-annual anniversary month. Altin, Peak Honey, QMD, and Eulia identified themselves as producers and exporters of honey. As required by 19 CFR 351.214(b)(2)(i), and (iii)(A), Altin, Peak Honey, QMD, and Eulia certified that they did not export honey to the United States during the period of investigation (POI), and that they have never been affiliated with any exporter or producer which exported honey to the United States during the POI. Furthermore, the four companies have also certified that their export activities are not controlled by the central government of the PRC, satisfying the requirements of 19 CFR 351.214(b)(2)(iii)(B). Pursuant to the Department's regulations at 19 CFR 351.214(b)(2)(iv), Altin, Peak Honey, QMD, and Eulia submitted documentation establishing the date on which the subject merchandise was first entered for consumption in the United States, the volume of that first shipment and any subsequent shipments, and the date of the first sale to an unaffiliated customer in the United States.

The Department conducted Customs database queries to confirm that the shipments made by Altin, Peak Honey, QMD, and Eulia had officially entered the United States via assignment of an entry date in the Customs database by U.S. Customs and Border Protection (CBP). We note that although Eulia submitted documentation regarding the volume of its shipment, the date of its first sale to an unaffiliated customer in the United States, and the date the merchandise was first entered for consumption in the United States, our Customs query shows that Eulia's shipment entered the United States shortly after the anniversary month.

Under 19 CFR 351.214(f)(2)(ii), when the sale of the subject merchandise occurs within the period of review (POR), but the entry occurs after the normal POR, the POR may be extended unless it would be likely to prevent the completion of the review within the time limits set by the Department's regulations. The preamble to the Department's regulations states that both the entry and the sale should occur during the POR, and that under “appropriate” circumstances the Department has the flexibility to extend the POR. Antidumping Duties; Countervailing Duties; Final Rule, 62 FR 27296, 27319-27320 (May 19, 1997). In this instance, Eulia's shipment entered in the month following the end of the POR. The Department does not find that this delay prevents the completion of the review within the time limits set by the Department's regulations.

Initiation of Review

In accordance with section 751(a)(2)(B) of the Tariff Act of 1930 (the Act), as amended, and 19 CFR 351.214(d)(1), and based on information on the record, we are initiating new shipper reviews for Altin, Peak Honey, QMD, and Eulia. See “Memorandum to the File through James C. Doyle: New Shipper Review Initiation Checklist,” dated January 24, 2006. We intend to issue the preliminary results of these reviews not later than 180 days after the date on which these reviews were initiated, and the final results of these reviews within 90 days after the date on which the preliminary results were issued. 19 CFR 351.214(i)(1).

Pursuant to 19 CFR 351.214(g)(1)(i)(A), the POR for a new shipper review, initiated in the month immediately following the anniversary month, will be the 12-month period immediately preceding the anniversary month. Therefore, the POR for the new shipper reviews of Altin, Peak Honey, and QMD is December 1, 2004, through November 30, 2005. As discussed above, under 19 CFR 351.214(f)(2)(ii), when the sale of the subject merchandise occurs within the POR, but the entry occurs after the normal POR, the POR may be extended. Therefore, the POR for the new shipper review of Eulia is December 1, 2004, through December 31, 2005.

It is the Department's usual practice in cases involving non-market economies to require that a company seeking to establish eligibility for an antidumping duty rate separate from the country-wide rate provide evidence of de jure and de facto absence of government control over the company's export activities. Final Determination of Sales at Less Than Fair Value: Sparklers from the People's Republic of China, 56 FR 20588 (May 6, 1991, at Comment 1, as amplified by the Final Determination of Sales at Less Than Fair Value: Silicon Carbide from the People's Republic of China, 59 FR 22585, 22587 (May 2, 1994).

Accordingly, we will issue questionnaires to Altin, Peak Honey, QMD, and Eulia, including a separate rates section. The review will proceed if the responses provide sufficient indication that Altin, Peak Honey, QMD, and Eulia are not subject to either de jure or de facto government control with respect to their exports of honey. However, if any company does not demonstrate its eligibility for a separate rate, then that company will be deemed not separate from other companies that exported during the POI and the new shipper review will be rescinded for that company.

In accordance with section 751(a)(2)(B)(iii) of the Act and 19 CFR 351.214(e), we will instruct CBP to allow, at the option of the importers, the posting, until the completion of the review, of a single entry bond or security in lieu of a cash deposit for certain entries of the merchandise exported by Altin, Peak Honey, QMD, and Eulia. Specifically, since Altin, Peak Honey, QMD, and Eulia have stated that they are both the producers and exporters of the subject merchandise for the sales under review, we will instruct CBP to limit the bonding option only to entries of merchandise that were both exported and produced by Altin, Peak Honey, QMD, and Eulia, respectively.

Interested parties that need access to proprietary information in these new shipper reviews should submit applications for disclosure under administrative protective orders in accordance with 19 CFR 351.305 and 351.306.

This initiation and notice are in accordance with section 751(a)(2)(B) of the Act, 19 CFR 351.214(d), and 19 CFR 351.221(c)(1)(i).

Dated: January 25, 2006.
Stephen J. Claeys,
Deputy Assistant Secretary for Import Administration.

[FR Doc. E6-1208 Filed 1-30-06; 8:45 am]

BILLING CODE 3510-DS-S